FEDERAL COMMUNICATIONS COMMISSION

47 CFR Part 73

[DA 08-275; MB Docket No. 02-376; RM-10617, RM-10690]

Radio Broadcasting Services; Davis-Monthan Air Force Base, Sells, and Willcox, AZ

AGENCY: Federal Communications Commission.

ACTION: Final rule; denial of petition for reconsideration.

SUMMARY: The staff denied a petition for reconsideration filed by Lakeshore Media, LLC of a Report and Order in this proceeding, which had denied Lakeshore's counterproposal and granted a mutually exclusive allotment of Channel 285A at Sells, Arizona. The staff determined the counterproposal was properly denied because the proposed “backfill” of two new FM allotments at Willcox were not adequate substitutes for the creation of sizeable “white” and “gray” service loss areas that would be caused by the downgrade and reallotment of Lakeshore's Station KWCX-FM from Willcox to Davis-Monthan Air Force Base.

FOR FURTHER INFORMATION CONTACT: Andrew J. Rhodes, Media Bureau, (202) 418-2180.

SUPPLEMENTARY INFORMATION: This is a synopsis of the Commission's Memorandum Opinion and Order, MB Docket No. 02-376, adopted January 30, 2008 and released February 1, 2008. The full text of this Commission decision is available for inspection and copying during normal business hours in the FCC Reference Information Center (Room CY-A257), 445 12th Street, SW., Washington, DC 20554. The complete text of this decision may also be purchased from the Commission's copy contractor, Best Copy and Printing, Inc., Portals II, 445 12th Street, SW., Room CY-B402, Washington, DC 20554, telephone 1-800-378-3160 or http://www.BCPIWEB.com.

The Memorandum Opinion and Order agreed that the Report and Order had properly applied the Commission's policy of not permitting “backfill” vacant allotments to the facts of this case. See 69 FR 71386 (December 9, 2004). Specifically, the proposed relocation of Lakeshore's station KWCX-FM would result in the loss of all radio service for 2,846 persons (i.e., a “white” area) and the reduction from two to one full-time reception service for 1,022 persons (i.e., a “gray” area). Although Lakeshore argued that its counterproposal does not create “white” area, as a matter of law, because the Commission considers a vacant allotment to prevent the creation of “white” area, the Memorandum Opinion and Order disagreed, finding that the policy of no longer permitting “backfill” allotments has necessarily modified, to some extent, the calculation of “white” or “gray” areas in cases of operating, as opposed to unbuilt, stations. As a result, the potential service from new “backfill” allotments, existing vacant allotments, or unbuilt construction permits will no longer be considered in calculating the loss of service by the reallotment of operating stations. By way of contrast, the traditional test of considering the potential service from “backfill” or existing vacant allotments would continue to apply in cases involving reallotments and changes of community of license for unbuilt stations because existing on-air service is not being lost.

This document is not subject to the Congressional Review Act. (The Commission, is, therefore, not required to submit a copy of this Memorandum Opinion and Order to GAO, pursuant to the Congressional Review Act, see 5 U.S.C. 801(a)(1)(A) because the petition for reconsideration was denied.)

Federal Communications Commission.
John A. Karousos,
Assistant Chief, Audio Division, Media Bureau.

[FR Doc. E8-3703 Filed 2-27-08; 8:45 am]

BILLING CODE 6712-01-P